DEPARTMENT OF ENERGY

Federal Energy Regulatory Commission

[Project No. 3701-089]

Tieton Hydropower, LLC; Notice of Application for Amendment of License and Soliciting Comments, Motions To Intervene, and Protests

January 15, 2009.

Take notice that the following hydroelectric application has been filed with the Commission and is available for public inspection:

a. Type of Application: Amendment of license to delete certain non-jurisdictional transmission facilities from license.

b. Project No: 3701-089.

c. Date Filed: November 17, 2008.

d. Applicant: Tieton Hydropower, LLC.

e. Name of Project: Tieton Hydroelectric Project.

f. Location: The project is located at the U.S. Bureau of Reclamation's Tieton Dam and Reservoir on the Tieton River in Yakima County, Washington.

g. Pursuant to: Federal Power Act, 16 U.S.C. 791a-825r.

h. Applicant Contact: Mr. Chad Ross, Tieton Hydropower, LLC, 925 N Fairgrounds Road, Goldendale, Washington 98206. Tel: (509) 773-4900.

i. FERC Contact: Any questions on this notice should be addressed to Ms. Kelly Houff at (202) 502-6393, or e-mail address: Kelly.Houff@ferc.gov.

j. Deadline for filing comments and or motions: February 17, 2009.

All documents (original and eight copies) should be filed with: Kimberly D. Bose, Secretary, Federal Energy Regulatory Commission, 888 First Street, NE., Washington, DC 20426. Comments, protests, and interventions may be filed electronically via the Internet in lieu of paper; see 18 CFR 385.2001(a)(1)(iii) and instructions on the Commission's Web site under the “e-filing” link. The Commission strongly encourages electronic filings. Please include the project number P-3701-089 on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Tieton Hydropower, LLC proposes to delete from the license, a 21-mile-long 115-kV transmission line extending from the Tieton Project to the PacifiCorp Tieton Substation, and the substation originally included in the Tieton Project description. According to the licensee, the line and substation will no longer be primary transmission facilities transmitting power solely for the Tieton Project, but will be used for the transmission of non-Tieton Project power.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-1469 Filed 1-23-09; 8:45 am]

BILLING CODE 6717-01-P